DEPARTMENT OF LABOR

Employment and Training Administration

[SGA/DFA-PY 08-04]

Solicitation for Grant Applications (SGA); Technology-Based Learning (TBL) Initiative

AGENCY: Employment and Training Administration (ETA), Labor.

ACTION: Notice: Amendment to SGA/DFA-PY 08-04.

SUMMARY: The Employment and Training Administration published a document in the Federal Register on June 20, 2008, announcing the availability of funds and solicitation for grant applications (SGA) under the TBL Initiative to be awarded through a competitive process. This notice is a third amendment to the SGA and it amends “Part III. Eligibility Information,” under the specific heading “Eligible Applicants.”

FOR FURTHER INFORMATION CONTACT: James Stockton, Grant Officer, Division of Federal Assistance, at (202) 693-3335.

Supplementary Information Correction: In the Federal Register of June 20, 2008, in FR Doc. E8-13967. On page 35158 under the second (2nd) paragraph, is amended to add a sub-paragraph to read: “A Workforce Investment Board, in partnership with representatives from the education and training community and industry in high-growth/high demand fields.”

EFFECTIVE DATE: This notice is efective August 7, 2008.

Signed at Washington, DC, this 1st day of August, 2008.
James W. Stockton,
Grant Officer.

[FR Doc. E8-18172 Filed 8-6-08; 8:45 am]

BILLING CODE 4510-FN-P